DEPARTMENT OF DEFENSE

Department of the Navy

Notice of Closed Meeting of the Chief of Naval Operations Executive Panel

AGENCY: Department of the Navy, DoD.

ACTION: Notice.

SUMMARY: The Chief of Naval Operations (CNO) Executive Panel will report on the findings and recommendations of the Subcommittee on Africa to the Chief of Naval Operations. The matters to be discussed during the meeting have been divided into the following four categories: threats to U.S. security and interests in Africa; political, economic, and security assessments of key African nations and institutions; U.S. Navy security cooperation and engagement strategies; and a conclusion/summary of the classified discussions.

Each topic under each of these headings is classified either secret or confidential, which makes this information exempt from open meeting disclosure pursuant to 5 U.S.C. Section 552b(c)(1).

DATES: The meeting will be held on October 27, 2008, from 9:30 a.m. to 11:30 a.m.

ADDRESSES: The meeting will be held at the Center for Naval Analysis Boardroom, 4825 Mark Center Drive, Alexandria, VA 22311.

FOR FURTHER INFORMATION CONTACT: CDR David Di Tallo, CNO Executive Panel, 4825 Mark Center Drive, Alexandria, VA 22311, telephone: 703-681-4908.

SUPPLEMENTARY INFORMATION: Pursuant to the provisions of the Federal Advisory Committee Act, as amended (5 U.S.C. App.), these matters constitute classified information that is specifically authorized by Executive Order to be kept secret in the interest of national defense and are, in fact, properly classified pursuant to such Executive Order. Accordingly, the Secretary of the Navy has determined in writing that the public interest requires that all sessions of this meeting be closed to the public because they will be concerned with matters listed in section 552b(c)(1) of title 5, United States Code.

Individuals or interested groups interested may submit written statements for consideration by the Chief of Naval Operations Executive Panel at any time or in response to the agenda of a scheduled meeting. All requests must be submitted to the Designated Federal Officer at the address detailed below.

If the written statement is in response to the agenda mentioned in this meeting notice then the statement, if it is to be considered by the Panel for this meeting, must be received at least five days prior to the meeting in question.

The Designated Federal Officer will review all timely submissions with the Chief of Naval Operations Executive Panel Chairperson, and ensure they are provided to members of the Chief of Naval Operations Executive Panel before the meeting that is the subject of this notice.

To contact the Designated Federal Officer, write to Executive Director, CNO Executive Panel (N00K), 4825 Mark Center Drive, 2nd Floor, Alexandria, VA 22311-1846.

Dated: September 26, 2008.
T.M. Cruz,
Lieutenant Commander, Judge Advocate General's Corps, U.S. Navy, Federal Register Liaison Officer.

[FR Doc. E8-23227 Filed 10-1-08; 8:45 am]

BILLING CODE 3810-FF-P